DEPARTMENT OF THE INTERIOR

Bureau of Land Management

[WY-050-1310-DB]

Notice of Intent To Prepare an Environmental Impact Statement and Possible Amendment to the Casper Resource Management Plan, Fremont, Sweetwater, and Natrona Counties, WY

AGENCY: Bureau of Land Management, Interior.

ACTION: Notice.

SUMMARY: In compliance with the National Environmental Policy Act of 1969 (NEPA), as amended, and the Federal Land Policy and Management Act of 1976 (FLPMA), as amended, the Bureau of Land Management (BLM) Lander Field Office, Rawlins Field Office, and Casper Field Office intend to prepare an Environmental Impact Statement (EIS) for the proposed Moneta Divide Natural Gas and Oil Development Project, which may include a land use plan amendment to the Casper Resource Management Plan (RMP), and by this notice is announcing the beginning of the scoping process to solicit public comments and identify issues.

DATES: This notice initiates the public scoping process for the EIS and possible land use plan amendment. You may submit written comments on issues until March 4, 2013. The date(s) and location(s) of any scoping meeting will be announced at least 15 days in advance through the local news media, newspapers and the BLM Web site at www.blm.gov/wy/en/info/NEPA/documents/lfo/moneta-divide.html. In order to be addressed in the Draft EIS, all comments must be received prior to the close of the scoping period or 15 days after the last public meeting, whichever is later. We will provide additional opportunities for public participation upon publication of the Draft EIS.

ADDRESSES: You may submit written comments by any of the following methods:

• Web site: www.blm.gov/wy/en/info/NEPA/documents/lfo/moneta-divide.html.

• Email: BLM_WY_LD_Moneta_Divide_EIS@blm.gov.

• Fax: 307-332-8444.

• Mail: Moneta Divide Natural Gas and Oil Development Project, Lander Field Office, 1335 Main Street, Lander, WY 82520.

Documents pertinent to this proposal may be examined at the Lander Field Office.

FOR FURTHER INFORMATION CONTACT: For further information and/or to have your name added to our mailing list, contact Chris Krassin, Project Coordinator, telephone: 307-332-8400; address: 1335 Main Street, Lander, WY 82520; email: BLM_WY_LD_Moneta_Divide_EIS@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: This document provides notice that the Lander Field Office, Rawlins Field Office, and Casper Field Office intend to prepare an EIS to support decision-making regarding the proposed Moneta Divide Natural Gas and Oil Development Project, begin the public scoping period, and seek input on the preliminary issues identified with respect to this Project. In addition, BLM authorization of this proposed project may require amendment of the 2007 Casper RMP. By this notice, the BLM is complying with requirements in 43 CFR 1610.2(c) to notify the public of potential amendments to land use plans, predicated on the findings of the EIS, and to seek public input on preliminary planning issues. If a land use plan amendment is necessary, the BLM will integrate the land use planning process with the NEPA process for this project.

Proponent energy development companies (the companies) propose to develop up to 4,250 natural gas and oil wells within the proposed Moneta Divide Natural Gas and Oil Development Project area. The proposed development project area is located in Fremont and Natrona counties and encompasses approximately 265,000 acres of land, of which 138,000 acres are public land administered by the Lander Field Office. Approximately 31,500 acres of the project area are public lands administered by the Casper Field Office. The southern portion of a proposed pipeline associated with the project is located in Sweetwater County on lands administered by the Rawlins Field Office. The balance of the development project area consists of State and private lands. The Lander Field Office will serve as the lead for this Project.

The companies propose to develop using downhole well spacing of up to 20 acres in select areas within the proposed project area using directional, vertical, and other drilling techniques, and propose to develop infrastructure to support oil and gas production in the project area, including: Well pads; gathering, treating, processing and compression production facilities; water wells, water treatment, water injection and evaporation facilities; electric power lines, roads, gas flow lines, and pipelines. The companies propose to transport gas through pipelines to approximately five field compression and treatment facilities. The companies propose to reinject produced water in some instances, evaporate it in some instances, and treat and dispose of it through the use of surface and subsurface facilities in other instances. The companies also propose to construct gas processing facilities in the project area to separate natural gas liquids from the natural gas stream as well as to construct a new pipeline to transport and deliver natural gas and natural gas liquids to market pipelines located near Wamsutter, Wyoming (approximately 100 miles south of the project area). The southern portion of the pipeline (approximately 42 miles in length) is proposed in Sweetwater County, Wyoming and public lands included within this segment are administered by the Rawlins Field Office.

Anticipated surface disturbance associated with the Moneta Divide Project proposal will include approximately 13,500 acres of initial surface disturbance for the construction of new roads, well pads, pipelines and associated facilities, of which approximately 5,500 acres could remain for the life of the project.

The BLM will evaluate any authorizations and actions within the Casper Field Office administrative area that are proposed for approval in the EIS to determine if they conform to the decisions in the 2007 Casper RMP. At this time, some management actions particularly for surface disturbing activities and wildlife stipulations in the Casper RMP do not match the Lander RMP (1987). In an effort to have consistency in management actions within the Moneta Divide project area and across the Lander and Casper Field Office administrative boundaries, it is anticipated that some management actions may result in a change in terms and conditions or decisions of the Casper RMP, which in turn may require amendment of the RMP. Prior to approval, any proposed actions that would result in a change in the scope of resource uses, terms and conditions, and decisions of the Casper RMP would require amendment of the RMP. If the BLM determines that a plan amendment is necessary, the analysis necessary for the RMP amendment would occur simultaneously with preparation of the Moneta Divide Natural Gas and Oil Development Project EIS. The preliminary planning criteria would include:

• The RMP amendment will comply with NEPA, FLPMA, and other applicable laws, executive orders, regulations and policy;

• The RMP amendment will recognize valid existing rights;

• The BLM would limit the scope of the RMP amendment to the BLM-administered public lands and mineral estate within the project area proposed for the Moneta Divide Natural Gas and Oil Development Project EIS; and

• A collaborative and multi-jurisdictional approach will be used, where possible, to jointly determine the desired future condition and management direction for the public lands. To the extent possible and within legal and regulatory parameters, the BLM planning and management decisions will complement the planning and management decisions of other agencies, State and local governments, and Native American tribes, with jurisdictions intermingled with, and adjacent to, the planning area.

To provide the public with an opportunity to review the proposed project and the project information, as well as the possible proposed plan amendment, the BLM will host meetings in Riverton and Casper within 45 days of the publication of this notice. The BLM will notify the public of meetings and any other opportunities for the public to be involved in the environmental review for this proposal at least 15 days prior to the event. Meeting dates, locations and times will be announced by a news release to the media, individual mailings and postings on the project Web site.

The purpose of the public scoping process is to determine relevant issues that will influence the scope of the environmental analysis, including alternatives, and guide the process for developing the EIS. At present, the BLM has identified the following preliminary issues: Potential impacts to air quality, disposal of produced water, and potential effects of development and production on surface resources including vegetation and wildlife habitat.

The BLM will utilize and coordinate the NEPA commenting process to help fulfill the public involvement process under Section 106 of the National Historic Preservation Act (16 U.S.C. 470f) as provided for in 36 CFR 800.2(d)(3). The information about historic and cultural resources within the area potentially affected by the proposed action will assist the BLM in identifying and evaluating impacts to such resources in the context of both NEPA and Section 106 of the NHPA. Native American tribal consultations will be conducted in accordance with policy, and tribal concerns will be given due consideration, including impacts on Indian trust assets. Federal, State, and local agencies, along with other stakeholders that may be interested or affected by the BLM's decision on this project, are invited to participate in the scoping process and, if eligible, may request or be requested by the BLM to participate as a cooperating agency.

Before including your address, phone number, email address or other personal-identifying information in your comment, you should be aware that your entire comment—including your personal identifying information—may be made publicly available at any time. While you may ask us in your comment to withhold your personal identifying information from public review, we cannot guarantee that we will be able to do so.

(Authority: 40 CFR 1501.7, 43 CFR 1610.2)

Donald A. Simpson,
State Director, Wyoming.

[FR Doc. 2013-00853 Filed 1-16-13; 8:45 am]

BILLING CODE 4310-22-P